DEPARTMENT OF TRANSPORTATION

Federal Transit Administration

Early Scoping Notice

AGENCY: Federal Transit Administration, DOT.

ACTION: Early scoping for the Staten Island North Shore Bus Rapid Transit Project in Staten Island, New York.

SUMMARY: The Federal Transit Administration (FTA) and the Metropolitan Transportation Authority-New York City Transit (MTA-NYCT) issue this early scoping notice for the Staten Island North Shore Bus Rapid Transit (BRT) Project (Project). MTA-NYCT is exploring ways to improve transit time and reliability on the North and West Shores of Staten Island. The purpose of this early scoping notice is to advise other agencies and the public of the intent to further study the Project. The Project would improve regional transit service by addressing current and projected travel time and reliability issues for trips between the West Shore and St. George Terminal. Early scoping for the Project is occurring within the context of the Council on Environmental Quality's regulations for complying with the National Environmental Policy Act (NEPA).

This notice invites public and agency input to ongoing planning efforts for the Project through commenting on the draft purpose and need, and potential impacts or concerns associated with the Project. The Proposed Project is being evaluated in an environmental impact statement under the New York State Environmental Quality Review Act (SEQRA), and public scoping for the SEQRA process is taking place concurrently with this NEPA early scoping. Should the Project receive FTA funding, FTA intends to use this early scoping process to satisfy the formal NEPA scoping.

DATES: Staten Island North Shore BRT Early Scoping Meeting: October 17, 2019, 6:00 p.m. to 8:30 p.m., Snug Harbor Cultural Center & Botanical Gardens, Lower Great Hall, 1000 Richmond Terrace, Staten Island, New York 10301.

Additional Opportunity to Comment: The public also may submit comments through the Project's website, by mail, and by electronic mail at the addresses below. FTA and MTA-NYCT request to receive all comments made in response to the Project's early scoping by November 18, 2019.

ADDRESSES: The public meeting will occur at the Snug Harbor Cultural Center & Botanical Gardens, Lower Great Hall, 1000 Richmond Terrace, Staten Island, New York 10301. The meeting location is accessible to persons with disabilities. If translation, signing services, or other special accommodations are needed, please contact Eric Bohn at 646-252-5165 or via email at eric.bohn@nyct.com.

The Project's website is https://new.mta.info/northshoreeis. Comments may be emailed to NorthShoreEIS@nyct.com. Comments may be mailed to MTA New York City Transit, Staten Island North Shore EIS, 2 Broadway, Room D17.112, New York, NY 10004.

FOR FURTHER INFORMATION CONTACT: Cyrenthia Ward, Community Planner, FTA, One Bowling Green, Room 428, New York, NY 10004. Email: Cyrenthia.ward@dot.gov. Telephone: (212) 668-2183. Eric Bohn, Capital Projects Manager, MTA-NYCT, MTA New York City Transit, 2 Broadway, 17th Floor, New York, NY 10004. Telephone: (646) 252-5165. Email: eric.bohn@nyct.com.

SUPPLEMENTARY INFORMATION: This notice invites the public to comment on a statement of the Purpose and Need for the Project, the Project study area, potential impacts, and potential alternatives. This notice also invites the public to review and comment on reports previously developed by local planning and transportation agencies that support the focus to further study new BRT service for the North and West Shores.

Early scoping is an optional early step in the NEPA process, which begins when FTA issues a notice of intent to prepare an environmental impact statement (EIS). Early scoping is intended to generate public and agency review and comments on the scope of a planning effort within a defined transportation corridor, the project's purpose and need, potential alternatives, study area, potential social, economic, and environmental impacts, and prior studies before formally preparing an EIS. Early scoping can ensure that the public and interested agencies are given the opportunity to review and provide comments on the results of planning activities that can then be used to inform the NEPA process. Early scoping is intended to identify the most reasonable alternatives to undergo NEPA environmental review.

Please see the Project's website (https://new.mta.info/northshoreeis) for more information on the background to the Project, the Purpose and Need for the Project, the Project study area, potential impacts, and potential alternatives.

Authority: 40 CFR 1501.7.

Issued on: September 24, 2019.
Michael L. Culotta,
Deputy Regional Administrator.

[FR Doc. 2019-21123 Filed 9-27-19; 8:45 am]

BILLING CODE 4910-57-P